DEPARTMENT OF THE TREASURY

Office of Foreign Assets Control

Actions Taken Pursuant to Executive Order 13382 Related to the Islamic Republic of Iran Shipping Lines (IRISL)

AGENCY: Office of Foreign Assets Control, Treasury.

ACTION: Notice.

SUMMARY: The Treasury Department's Office of Foreign Assets Control (“OFAC”) is publishing on OFAC's list of Specially Designated Nationals and Blocked Persons additional identifying information associated with Soroush Sarzamin Asatir Ship Management Company, an entity designated on June 16, 2010, pursuant to Executive Order 13382 of June 28, 2005, “Blocking Property of Weapons of Mass Destruction Proliferators and Their Supporters” and whose property and interests in property are therefore blocked.

DATES: The publication of additional identifying information for Soroush Sarzamin Asatir Ship Management Company by the Director of OFAC, pursuant to Executive Order 13382, was effective on October 27, 2011.

FOR FURTHER INFORMATION CONTACT: Assistant Director, Sanctions Compliance & Evaluation, tel.: (202) 622-2490, Office of Foreign Assets Control; Assistant Director for Policy, tel.: (202) 622-4855, Office of Foreign Assets Control; or Chief Counsel (Foreign Assets Control), tel.: (202) 622-2410, Office of the General Counsel, Department of the Treasury, Washington, DC 20220.

SUPPLEMENTARY INFORMATION:

Electronic and Facsimile Availability

This document and additional information concerning OFAC are available from OFAC's web site (http://www.treas.gov/offices/enforcement/ofac) or via facsimile through a 24-hour fax-on demand service, tel.: (202) 622-0077.

Background

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 29, 2005. In the Order, the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

On October 27, 2011, the Director of OFAC supplemented the identifying information for Soroush Sarzamin Asatir Ship Management Company, and entity designated on June 16, 2010, pursuant to the Order, and whose property and interest in property is therefore blocked.

The entry for Soroush Sarzamin Asatir Ship Management Company on OFAC's list of Specially Designated Nationals and Blocked Persons now reads as follows:

SOROUSH SARZAMIN ASATIR SHIP MANAGEMENT COMPANY (a.k.a. RAHBARAN OMID DARYA SHIP MANAGEMENT COMPANY), No. 5 Shabnam Alley, Golzar Street, Fajr Street, Shahid Motahari Avenue, Tehran 193651, Iran; P.O. Box 19365-1114, Tehran, Iran; Business Registration Document # 341563; alt. Business Registration Document # 5466371 issued 2009 [NPWMD]

Dated: November 7, 2011.
Adam J. Szubin,
Director, Office of Foreign Assets Control.

[FR Doc. 2011-30108 Filed 11-22-11; 8:45 am]

BILLING CODE 4810-AL-P